DEPARTMENT OF TRANSPORTATION

Federal Aviation Administration

14 CFR Part 39

[Docket No. 2000-NM-116-AD; Amendment 39-12480; AD 2001-12-08 R1]

RIN 2120-AA64

Airworthiness Directives; Boeing Model 767 Series Airplanes

AGENCY: Federal Aviation Administration, DOT.

ACTION: Final rule; correction.

SUMMARY: This amendment corrects and clarifies information in an existing airworthiness directive (AD) that applies to certain Boeing Model 767 series airplanes. That AD currently requires removing the two existing escape ropes in the flight compartment; installing new escape ropes, bags, and placards; and replacing the nylon straps with new straps; as applicable. This document clarifies and corrects the affected airplane line numbers. This correction is necessary to ensure that operators do not misinterpret which airplanes are subject to the requirements of this AD.

DATES: Effective July 20, 2001.

The incorporation by reference of certain publications listed in the regulations was approved previously by the Director of the Federal Register as of July 20, 2001 (66 FR 32531, June 15, 2001).

FOR FURTHER INFORMATION CONTACT: John Picolla, Aerospace Engineer, Airframe Branch, ANM-120S, FAA, Seattle Aircraft Certification Office, 1601 Lind Avenue, SW., Renton, Washington 98055-4056; telephone (425) 227-1509; fax (425) 227-1181.

SUPPLEMENTARY INFORMATION: On June 6, 2001, the Federal Aviation Administration (FAA) issued AD 2001-12-08, amendment 39-12263 (66 FR 32531, June 15, 2001), which applies to certain Boeing Model 767 series airplanes. That AD requires removing the two existing escape ropes in the flight compartment; installing new escape ropes, bags, and placards; and replacing the nylon straps with new straps; as applicable. That action was necessary to ensure that flight crew members safely reach the ground from a flight compartment window in the event of an emergency evacuation. That action is intended to address the identified unsafe condition.

Need for the Correction

Information obtained recently by the FAA indicates that the applicability of AD 2001-12-08 and the applicability of paragraph (a)(2) of that AD need to be clarified and corrected.

As published, the applicability of the AD references Boeing Alert Service Bulletin 767-25A0265, dated May 27, 1999, as the appropriate source of service information for determining the affected Model 767 series airplanes. The service bulletin references Service Bulletin Index Document D624T001, Part 3, for airplane variable number, line number, and serial number data. Because some operators may not readily have access to this secondary source of service information, the FAA has determined that the applicability of the AD should specify the affected airplane line numbers (i.e., line numbers 1 through 334, excluding line numbers 265, 281, 284, 286, 288, 293, and 298), which were identified in the Summary of Boeing Alert Service Bulletin 767-25A0265.

Paragraph (a)(2) of AD 2001-12-08 affects airplanes having “serial numbers 1 through 107 inclusive.” However, the reference to “serial numbers” is incorrect. The FAA's intent was to list “line numbers 1 through 107 inclusive,” as indicated in the referenced Boeing Alert Service Bulletin 767-25A0265, dated May 27, 1999.

The FAA has determined that a correction to AD 2001-12-08 is necessary. The correction will clarify and correct the affected airplane line numbers.

Correction of Publication

This document corrects and clarifies the errors of AD 2001-12-08 and correctly adds the AD as an amendment to section 39.13 of the Federal Aviation Regulations (14 CFR 39.13).

The AD is reprinted in its entirety for the convenience of affected operators. The effective date of the AD remains July 20, 2001.

Since this action only clarifies and corrects a current requirement, it has no adverse economic impact and imposes no additional burden on any person. Therefore, the FAA has determined that notice and public procedures are unnecessary.

List of Subject in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12263 (66 FR 32531, June 15, 2001), and by adding a new airworthiness directive (AD), amendment 39-12480, to read as follows:

2001-12-08 R1 Boeing: Amendment 39-12480. Docket 2000-NM-116-AD. Revises AD 2001-12-08, Amendment 39-12263.

Applicability: Model 767 series airplanes, line numbers 1 through 334, certificated in any category; excluding those airplanes having line numbers 265, 281, 284, 286, 288, 293, and 298.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To ensure that flight crew members safely reach the ground from a flight compartment window in the event of an emergency evacuation, accomplish the following:

Replacement

(a) Within 18 months after the effective date of this AD, do the actions specified in paragraphs (a)(1) and (a)(2) of this AD, as applicable, per Boeing Alert Service Bulletin 767-25A0265, dated May 27, 1999.

(1) For all airplanes: Remove the two existing escape ropes and install new escape ropes, bags, and placards, as applicable, in the flight compartment.

(2) For airplanes having line numbers 1 through 107 inclusive; on which Boeing Service Bulletin 767-25-0149, dated March 7, 1991, has been accomplished; or on which neither Boeing Service Bulletin 767-25-0149, dated March 7, 1991, nor 767-25A0242, dated October 31, 1996, has been accomplished: Replace the nylon straps with new straps.

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Boeing Alert Service Bulletin 767-25A0265, dated May 27, 1999. This incorporation by reference was approved previously by the Director of the Federal Register as of July 20, 2001 (66 FR 32531, June 15, 2001). Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) The effective date of this amendment remains July 20, 2001.

Issued in Renton, Washington, on October 18, 2001.
Ali Bahrami,
Acting Manager, Transport Airplane Directorate, Aircraft Certification Service.

[FR Doc. 01-26861 Filed 10-25-01; 8:45 am]

BILLING CODE 4910-13-U